NUCLEAR REGULATORY COMMISSION

Advisory Committee on Reactor Safeguards (ACRS); Meeting of the ABWR Subcommittee; Notice of Meeting

The ACRS Subcommittee on ABWR will hold a meeting on December 5, 2007, Room T-2B3, 11545 Rockville Pike, Rockville, Maryland.

The entire meeting will be open to public attendance, with the exception of a portion that may be closed to discuss General Electric Company proprietary information pursuant to 5 U.S.C. 552b(c)(4).

The agenda for the subject meeting shall be as follows:

Wednesday, December 5, 2007—12:30 p.m. until 5 p.m.

The Subcommittee will meet with representatives of the General Electric Company and the NRC staff to discuss the ABWR certified design, proposed amendment to the certified design, issues to be addressed through topical reports, issues to be addressed through Combined License Submittals (design centered working group), and the staff's review schedule. The Subcommittee will gather information, analyze relevant issues and facts, and formulate proposed positions and actions, as appropriate, for deliberation by the full Committee.

Members of the public desiring to provide oral statements and/or written comments should notify the Designated Federal Officer, Ms. Maitri Banerjee (telephone 301/415-6973) 5 days prior to the meeting, if possible, so that appropriate arrangements can be made. Electronic recordings will be permitted only during those portions of the meeting that are open to the public. Detailed procedures for the conduct of and participation in ACRS meetings were published in the Federal Register on September 26, 2007 (72 FR 54695).

Further information regarding this meeting can be obtained by contacting the Designated Federal Officer between 7 a.m. and 4:45 p.m. (ET). Persons planning to attend this meeting are urged to contact the above named individual at least two working days prior to the meeting to be advised of any potential changes to the agenda.

Dated: November 8, 2007.
Cayetano Santos,
Chief, Reactor Safety Branch.

[FR Doc. E7-22540 Filed 11-16-07; 8:45 am]

BILLING CODE 7590-01-P